DEPARTMENT OF COMMERCE

International Trade Administration

Proposed Information Collection; Comment Request; Surveys for User Satisfaction, Impact and Needs; Correction

AGENCY: International Trade Administration, Commerce.

ACTION: Notice; correction.

SUMMARY: The International Trade Administration (ITA) published a document in the Federal Register on May 1, 2018, concerning a request to solicit clients' opinions about the use of ITA products, services, and trade events, to promote optimal use and provide focused and effective improvements to ITA programs. The document was a duplicate submission of an identical notice published in the Federal Register on February 28, 2018 (83 FR 8651). This notice corrects the duplicate submission by withdrawing the notice published on May 1, 2018.

DATES: Document 2018-09119, that published May 1, 2018 at 83 FR 19047, is withdrawn as of May 1, 2018.

ADDRESSES: We will continue to accept public comments for the original Federal Register published on February 28, 2018 (83 FR 8651) that are submitted on or before April 30, 2018 by the following method:

Direct all written comments to Jennifer Jessup, Departmental Paperwork Clearance Officer, Department of Commerce, Room 6616, 14th and Constitution Avenue NW, Washington, DC 20230 (or via the internet at PRAcomment@doc.gov).

FOR FURTHER INFORMATION CONTACT: Requests for additional information or copies of the information collection instrument and instructions should be directed to Joe Carter—Office of Strategic Planning, 1999 Broadway—Suite 2205, Denver, CO 80220, (303) 844-5656, joe.carter@trade.gov.

SUPPLEMENTARY INFORMATION:

Correction

The Federal Register published May 1, 2018, in FR Doc. 2018-09119, document citation 83 FR 19047 on page 19047, is a duplicate submission that is being withdrawn.

All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

Sheleen Dumas,
Departmental Lead PRA Officer, Office of the Chief Information Officer.

[FR Doc. 2018-09500 Filed 5-3-18; 8:45 am]

BILLING CODE 3510-FP-P